DEPARTMENT OF HEALTH AND HUMAN SERVICES

Substance Abuse and Mental Health Services Administration

Announcement of Requirements and Registration for Offender Reintegration Toolkit Challenge

Authority: 15 U.S.C. 3719.

AGENCY: SAMHSA, HHS.

ACTION: Notice.

SUMMARY: (1) What action is being taken?

The Substance Abuse and Mental Health Services Administration (SAMHSA) has issued an Offender Reintegration Toolkit Challenge to help reduce recidivism and promote the public health and safety of communities.

(2) Why is this action necessary?

Studies show that people leaving the criminal justice system have a higher proportion of substance use and mental disorders than the general population. Treatment and recovery support, along with housing and employment are necessary to help newly released individuals address substance use and mental disorders and to keep them from reoffending. Easy to find information and resources can help them (and their family and friends) as they return to their communities.

(3) What is the objective of the challenge?

To reduce recidivism and provide resources and support for individuals leaving the criminal justice system and re-entering their communities.

(4) What is the intended effect of this action?

Family, friends, parole officers, and community service staff will help ex-offenders connect to resources for housing, employment, healthcare, and treatment and recovery for substance use and mental health disorders. By connecting them to necessary supports, ex-offenders will successfully transition back into their communities and live successful, healthy lives.

SAMHSA is seeking solutions to this problem through cost-effective, portable, technology-based products that effectively reach a diverse population of ex-offenders being released from jail or prison, and the friends, family, parole officers, case managers, and service center staff who help them. Technology-based products may include, but are not limited to, web applications, mobile apps, and Web sites.

DATES: The challenge starts on June 1, 2015 10:00 a.m. ET. The challenge ends on July 29, 2015 11:59 p.m. ET.

FOR FURTHER INFORMATION CONTACT: Dina Passman, Public Health Advisor, SAMHSA/CSAT/PMB, 1 Choke Cherry Road, Room 5-1070, Rockville, MD, Phone: (240) 276-2854, Email: Dina.Passman@samhsa.hhs.gov.

SUPPLEMENTARY INFORMATION: Subject of Challenge Competition: Reentry Resources for Individuals leaving the criminal justice system.

Eligibility Rules for Participating in the Competition:

“To be eligible to win a prize under this challenge, an individual or entity—

(1) Shall have registered to participate in the competition under the rules promulgated by [the issuing agency];

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.”

(5) Shall not be an HHS employee working on their applications or submissions during assigned duty hours.

(6) Shall not be an employee of SAMHSA.

(7) [Federal grantees may not use Federal funds to develop COMPETES Act challenge applications unless consistent with the purpose of their grant award and specifically requested to do so due to the competition design. Therefore, unless specifically requesting Federal grantees to compete, include the following text in your Federal Register notice: “Federal grantees may not use Federal funds to develop COMPETES Act challenge applications unless consistent with the purpose of their grant award.”]

(8) Federal contractors may not use Federal funds from a contract to develop COMPETES Act challenge applications or to fund efforts in support of a COMPETES Act challenge submission.

“An individual or entity shall not be deemed ineligible because the individual or entity used Federal facilities or consulted with Federal employees during a competition if the facilities and employees are made available to all individuals and entities participating in the competition on an equitable basis.”

Registration Process for Participants

A. Registration

(i) Beginning on June 1, 2015 at 10:00 a.m. Eastern Time, visit CHALLENGE URL (the “Competition Web site”) and click “Sign Up” to create a ChallengePost account, or click “Log In” and log in with an existing ChallengePost account. There is no charge for creating a ChallengePost account.

(ii) After a Contestant signs up on the Competition Web site a confirmation email will be sent to the email address provided by the Contestant. The Contestant should use the confirmation email to verify their email address.

(iii) Contestant should indicate their agreement in participating by clicking “Register” on the Competition Web site in order to receive important Competition updates.

(iv) In the event of a dispute pertaining to this Competition, the authorized account holder of the email address used to sign up for the ChallengePost account used to enter the Submission will be deemed to be the Contestant (in case of an individual) and the Contestant's Representative, in the case of a team or Organization. The “authorized account holder” is the natural person or legal entity assigned an email address by an Internet access provider, online service provider or other organization responsible for assigning email addresses for the domain associated with the submitted address. Contestants generally and potential winners may be required to show proof of being the authorized account holder.

Amount of the Prize: 1st prize: $10,000 cash; 2nd prize: $7,500 cash; 3rd prize: $5,000 cash.

Payment of the Prize: Prize payment will be paid by contractor.

Basis Upon Which Winner Will Be Selected

A. All eligible Submissions will be judged by an expert panel of impartial judges (the “Judges”) selected by the Sponsor. The internal panel will judge these Submissions on the criteria identified in these Official Rules to select finalist Submissions. Finalist Submissions will then be judged by the expert judging panel determined by the Sponsor. The judging panel is not required to test the Application and may choose to judge based solely on the text description and video provided in the Submission. The Sponsor and the Administrator reserve the right to divide and assign the criteria identified below in these Official Rules among different members of the internal and expert judging panels. The Sponsor and the Administrator reserve the right to substitute or modify the judging panel at any time for any reason.

B. All Judges shall be and remain fair and impartial. Any Judge may recuse him or herself from judging a Submission if the Judge, the Sponsor or the Administrator considers that it is inappropriate, for any reason, for the Judge to evaluate a specific Submission or group of Submissions.

C. A Contestant's likelihood of winning will depend primarily on the number and quality of all of the Submissions, as determined by the Judges using the criteria in these Official Rules. The judging period is August 5, 2015 at 10:00 a.m. Eastern Time through August 14, 2015 at 11:59 p.m. Eastern Time (the “Judging Period ”).

D. Criteria:

Judging Criteria:

(i) Quality of Performance (40 points) (includes how well the Application functions technically, and extent to which the Application responds to the Competition topic and target audience, and how thoroughly and clearly the solution utilizes the required assets);

(ii) Quality of User Experience (25 points) (includes visual aesthetic and ease of use);

(iii) Potential Impact (25 points) (includes the potential impact related to successfully informing target audiences about the resources available to them for employment, housing, treatment and recovery;) and

(iv) Feasibility of Use (10 points) (includes how easily target audiences and members of the public can access and use the Application).

E. If deemed necessary by the judging panel, each of the top five finalists may be asked to participate in a virtual or in-person meeting with federal staff to discuss their Application and demonstrate its operation. The purpose of these meetings will be to further evaluate the Contestant's product, provide any additional information to SAMHSA, and clarify any concerns or questions raised by the review panel.

F. Tie Breakers. In the event of a tie between two or more Submissions, the tied Submission with the highest score in the first criterion listed above shall be deemed the higher scoring Submission. In the event any ties remain, this process will be repeated by comparing the tied Submissions' scores on the second, third, fourth, and fifth criterion listed above, respectively. If two or more Submissions are tied on all four criteria, the panel of Judges will vote on the tied submissions.

Additional Information

Submission

(i) Contestants must create a working software application which runs on a smartphone or tablet (iOS, Android, Blackberry, Windows Mobile, via a mobile browser or downloadable app), a Windows or Mac personal computer, or on a web browser (Chrome, Firefox, Internet Explorer, or Safari) (each an “Application”).

(ii) During the Competition Submission Period, Contestant must visit the Competition Web site and confirm that he or she has or, if Contestant is a Representative, all members of their team or Organization have, read and agree to the Official Rules. Then, Contestant must submit its Submission by providing:

a. The name of the Application;

b. a text description of the Application and how it functions;

c. a text description of testing instructions for the app;

d. at least one image (screenshot) of the working Application;

e. a link to a video uploaded to ChallengePost.com and YouTube.com that clearly demonstrates the Application's functionality and features (by walking through the Application);

f. the Application platform (iOS, Android, Mac Desktop, Windows Desktop, Web);

g. for web or mobile web Applications, a link to a Web site where the Application can be accessed free of charge;

h. for Mac or Windows desktop Applications, a zip file upload including appropriate installation files; and, if available, a link to a Web site or app store where the Application can be downloaded;

i. step-by-step testing instructions including the minimum operating system or web browser version required for testing and login instructions, if a login is required;

j. the submitter type (individual, team, or organization);

k. the Organization name, if the submitter is an Organization; and

l. the Contestant Representative's phone number.

(a-l above, are collectively a “Submission”)

(iii) For sake of clarity, all parts of the Submission must be entered at the same time on the Competition Web site. All Submissions must be received by no later than 11:59 p.m. Eastern Time on July 29, 2015.

(iv) Once a Submission has been submitted and the Competition Submission Period has ended, a Contestant may not make any changes or alterations to the Submission until the end of the Judging Period. Contestants may save draft versions of their Submission before entering it on the Competition Web site.

(v) The Sponsor and/or the Administrator, at their sole discretion, may permit a Contestant to modify part of the Submission after the Competition Submission Deadline for the purpose of removing material that potentially infringes a third party mark or right, discloses personally identifiable information, or is otherwise inappropriate. The modified Submission must remain substantively the same as the original Submission with the only modification being what is permitted by the Sponsor and/or Administrator. Any modifications beyond what is permitted may result in disqualification.

(vi) Applications cannot be changed after the Competition Submission Period and before the end of the Judging Period, unless the Contestant has provided an installation file and testing instructions on the Enter an Application form on the Competition Web site.

Submission Requirements

A. Language Requirements

All Submission materials must be in English.

B. Text Description, Image and Video Requirements

(i) The text description must describe the Application's key features and functionality.

(ii) The image(s) must be photographs or screenshots of your working Application.

(iii) The video portion of the Submission:

a. Should be no longer than five (5) minutes;

b. must clearly demonstrate the Application's features and functionality; and

c. must not include music or other copyrighted material or use third party trademarks unless the Contestant has written permission to use such material.

(iv) If the video is primarily promotional rather than a demonstration of the Application's functionality and features (by walking through the Application), the Submission may be disqualified at the Sponsor's and/or Administrator's sole discretion. Challenge managers should include any additional information in this section that would be relevant for participants. For example, it could include background information about the data sources or materials that should be accessed for purposes of this challenge, treatment of intellectual property rights if it is an area the agency plans to negotiate at a later point in the challenge competition, or background information about related initiatives or challenges.

Content Requirements

(i) The Submission must exclusively include information specified in the asset file. This information must include, but not be limited to, the SAMHSA Opioid Overdose Toolkit. Entries may not substantially alter the meaning, intent, or otherwise misrepresent the content from SAMHSA's Opioid Overdose Toolkit or other assets in whole or in part. The intention of this clause is to ensure that the integrity of the content is maintained.

(ii) The Submission must target individuals, friends, family, and people who work in organizations assisting people leaving the criminal justice system and re-entering their community. The submission must be developed based on the use cases (included in the materials) as their target users.

(iii) Submission must not include an audio or visual performance, including but not limited to music, dance, or other performing art, third-party copyrighted material or trademarks, unless the Contestant has written permission to use such material.

(iv) The Submission must not use HHS's or SAMHSA's logos or official seals and must not claim endorsement.

Summer King,
Statistician.

[FR Doc. 2015-11098 Filed 5-7-15; 8:45 am]

BILLING CODE 4162-20-P